DEPARTMENT OF ENERGY

President's Council of Advisors on Science and Technology

AGENCY: Office of Science, Department of Energy.

ACTION: Notice of solicitation for comments.

SUMMARY: The President's Council of Advisors on Science and Technology (PCAST) is interested in hearing from stakeholders on a series of questions related to forensic science.

DATES: Please submit all responses by December 23, 2015, 12:00 p.m. EST.

ADDRESSES: input must be submitted electronically using the Web-based form available at https://www.whitehouse.gov/webform/pcast-forensic-science-solicitation-questions-0.

FOR FURTHER INFORMATION CONTACT: Specific questions about this notice should be sent via email to Ms. Jennifer Michael at Jennifer_L_Michael@ostp.eop.gov.

SUPPLEMENTARY INFORMATION: The President's Council of Advisors on Science and Technology (PCAST) is an advisory group of the Nation's leading scientists and engineers, appointed by the President to augment the science and technology advice available to him from inside the White House, Cabinet Departments, and other Federal agencies. See the Executive Order at http://www.whitehouse.gov/ostp/pcast. PCAST is consulted about and provides analyses and recommendations concerning a wide range of issues where understandings from the domains of science, technology, and innovation may bear on the policy choices before the President. PCAST is co-chaired by Dr. John P. Holdren, Assistant to the President for Science and Technology, and Director, Office of Science and Technology Policy, Executive Office of the President, The White House; and Dr. Eric S. Lander, President, Broad Institute of the Massachusetts Institute of Technology and Harvard.

Please note that because PCAST operates under the provisions of FACA, all public comments and/or presentations will be treated as public documents and will be made available for public inspection, including being posted on the PCAST Web site.

Issued in Washington, DC, on November 24, 2015.
LaTanya R. Butler,
Deputy Committee Management Officer.

[FR Doc. 2015-30453 Filed 11-30-15; 8:45 am]

BILLING CODE 6450-01-P